DEPARTMENT OF THE TREASURY

Submission for OMB Review; Comment Request

March 22, 2005.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before April 27, 2005 to be assured of consideration.

Financial Crimes Enforcement Network (FinCEN)

OMB Number: 1506-0009.

Form Number: TD F 90-22.1.

Type of Review: Extension.

Title: Financial Record-keeping and Reporting and Report of Foreign Bank and Financial Accounts.

Description: The Bank Secrecy Act authorizes Treasury to require financial institutions and individuals to keep records and file reports that the Treasury determines have a high degree of usefulness in criminal, tax, or regulatory matters, or to protect against international terrorism.

Respondents: Business or other for-profit, Individuals or households, Not-for-profit Institutions.

Estimated Number of Respondents/Recordkeepers: 13,000,000.

Estimated Burden Hours Per Respondent/Recordkeeper: Varies.

Frequency of Response: On Occasion.

Estimated Total Reporting/Recordkeeping Burden: 10,942,392 hours.

Clearance Officer: Steve Rudzinski, Financial Crimes Enforcement Network, 2070 Chain Bridge Road, Suite 200, Vienna, VA 22182, (703) 905-3845.

OMB Reviewer: Joseph F. Lackey, Jr., Office of Management and Budget, Room 10235, New Executive Office Building, Washington, DC 20503, (202) 395-7316.

Christopher L. Davis,
Treasury PRA Assistant.

[FR Doc. 05-6047 Filed 3-25-05; 8:45 am]

BILLING CODE 4810-02-P